DEPARTMENT OF ENERGY

Federal Energy Regulatory Commission

[Docket Nos. EG04-1-000 and EG04-2-000 (Not Consolidated)]

Colorado Wind Ventures, LLC, PPM Colorado Wind Ventures, Inc.; Notice of Partial Refund of Filing Fee

May 7, 2004.

On April 5, 2004, Colorado Wind Ventures, LLC (Colorado Wind) and PPM Colorado Wind Ventures, Inc. (PPM) (together, Petitioners) filed a request for a partial refund of filing fee in the above-referenced proceedings.

Petitioners explain that they submitted requests for a refund in the amount of $990.00 for filing fees paid when they applied for exempt wholesale generator status. Petitioners state that the requests were made on the grounds that neither Colorado Wind nor PPM are public utilities.

In the instant April 5, 2004 request, Petitioners state that, upon discussion with the Commission's staff, Petitioners are withdrawing the requests for refund of the full $990.00. However, because the filing fee for EWG applications was changed from $990.00 to $870.00 just prior to both Colorado Wind and PPM filing their respective EWG applications, a request for a refund of the $120.00 difference for each filing is justified.

For good cause shown, the request is granted and the refund will be processed accordingly. The refund will be made payable to “Colorado Wind Ventures, LLC and PPM Colorado Wind Ventures, Inc.” and will be forwarded to Sean E. O'Day, Stoel Rives LLP, 900 SW., Fifth Avenue, Suite 2600, Portland, Oregon 97204.

Magalie R. Salas,
Secretary.

[FR Doc. E4-1159 Filed 5-12-04; 8:45 am]

BILLING CODE 6717-01-P